SOCIAL SECURITY ADMINISTRATION

Modifications to the Disability Determination Procedures; Extension of Disability Claims Process Redesign Prototype and Test of Single Decisionmaker Model

AGENCY: Social Security Administration.

ACTION: Notice of the extension of two tests involving modifications to the disability determination procedures.

SUMMARY: We are announcing the extension of two tests of modifications to our disability determination procedures that we are conducting under the authority of current rules codified at 20 CFR 404.906 and 416.1406. These rules provide authority to test several modifications to the disability determination procedures that we normally follow in adjudicating claims for disability insurance benefits under title II of the Social Security Act (the Act) and for supplemental security income payments based on disability under title XVI of the Act. We have decided to extend selection of cases for six months while we identify the most positive elements of the tests for rollout, and to enable us to address transition issues.

DATES: We are extending our selection of cases to be included in these tests from December 31, 2001 until no later than June 28, 2002. If we decide to continue selection of cases for these tests beyond this date, we will publish another notice in the Federal Register.

FOR FURTHER INFORMATION CONTACT: Phil Landis, Director, Disability Process Redesign Staff, Office of Disability, Social Security Administration, 6401 Security Boulevard, Baltimore, Maryland, 21235, 410-965-5388.

SUPPLEMENTARY INFORMATION: Current regulations at 20 CFR 404.906 and 416.1406 authorize us to test, individually or in any combination, several different modifications to the disability determination procedures. We have conducted several tests under the authority of these rules, including a prototype that incorporates a number of modifications to the disability determination procedures that the State agencies use. We also have conducted tests involving the use of a single decisionmaker who may make the initial disability determination in most cases without requiring the signature of a medical consultant. We are now announcing the extension of these two tests.

Extension of Test of Prototype Process

On August 28, 1999, we published in the Federal Register a notice announcing that we would test a new disability claims process in 10 States (64 FR 47218). In that notice, we stated that selection of cases to be included in the prototype would begin on or about October 1, 1999, and would be concluded on or about December 31, 2001. We also stated that, if we decided to continue the prototype beyond that date, we would publish another notice in the Federal Register. That is one of the purposes of this notice. We have decided to extend selection of cases for the prototype process beyond December 31, 2001, while we identify the most positive elements of the tests for rollout, and to enable us to address transition issues. We expect that our selection of cases under the prototype will end on or before June 28, 2002.

This extension also applies to the locations in the State of New York that we added to the test in a notice published in the Federal Register on December 26, 2000 (65 FR 81553).

Extension of Test of Single Decisionmaker Model

On December 23, 1999, we published a notice in the Federal Register (65 FR 72134) extending through December 31, 2001, the period during which we would select cases to be included in a test of the single decisionmaker feature. We have decided to extend selection of cases for the test of the single decisionmaker beyond December 31, 2001, to allow time for us to make decisions about this feature. We expect that our selection of cases for the test of the single decisionmaker will end on or before June 28, 2002.

Dated: December 19, 2001.
Martin H. Gerry,
Deputy Commissioner for Disability and Income Security Programs.

[FR Doc. 01-31895 Filed 12-27-01; 8:45 am]

BILLING CODE 4191-02-U